DEPARTMENT OF TRANSPORTATION

National Highway Traffic Safety Administration

[Docket No. NHTSA-2024-0067]

HOLON—Receipt of Application for Temporary Exemption From Various Requirements of the Federal Motor Vehicle Safety Standards for an Automated Driving System-Equipped Vehicle; Reopening of Comment Period

AGENCY: National Highway Traffic Safety Administration (NHTSA), Department of Transportation (DOT).

ACTION: Reopening of comment period.

SUMMARY: NHTSA published a request for public comment on November 8, 2024, announcing receipt of and seeking comment on an application for temporary exemption from HOLON U.S. Inc (HOLON). HOLON's application seeks a temporary exemption from various requirements of the Federal motor vehicle safety standards (FMVSS) for a vehicle equipped with an automated driving system (ADS).

DATES: The comment period for the Part 555 receipt notice published on November 8, 2024 will be open until October 29, 2025.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Rm. W12-140, 1200 New Jersey Avenue SE, Washington, DC 20590.

• Hand Delivery or Courier: West Building, Ground Floor, Room W12-140, 1200 New Jersey Avenue SE, between 9 a.m. and 5 p.m. Eastern Time, Monday through Friday, except Federal holidays. To be sure someone is there to help you, please call (202) 366-9332 before coming.

• Fax: 202-493-2251.

Instructions: All submissions must include the agency name and docket number. Note that all comments received will be posted without change to https://www.regulations.gov, including any personal information provided. Please see the Privacy Act discussion below. NHTSA will consider all comments received before the close of business on the comment closing date indicated above. To the extent possible, NHTSA will also consider comments filed after the closing date.

Docket: For access to the docket to read background documents or comments received, go to https://www.regulations.gov at any time or to 1200 New Jersey Avenue SE, West Building Ground Floor, Room W12-140, Washington, DC 20590, between 9 a.m. and 5 p.m., Monday through Friday, except Federal Holidays. Telephone: 202-366-9826.

Privacy Act: In accordance with 5 U.S.C. 553(c), DOT solicits comments from the public to inform its rulemaking process. DOT posts these comments, without edit, to www.regulations.gov, as described in the system of records notice, DOT/ALL-14 FDMS, accessible through www.dot.gov/privacy. In order to facilitate comment tracking and response, we encourage commenters to provide their name, or the name of their organization; however, submission of names is completely optional. Whether or not commenters identify themselves, all timely comments will be fully considered. If you wish to provide comments containing proprietary or confidential information, please contact the agency for alternate submission instructions.

Confidential Business Information: If you wish to submit any information under a claim of confidentiality, you must submit your request directly to NHTSA's Office of the Chief Counsel. Requests for confidentiality are governed by Part 512. NHTSA is currently treating electronic submission as an acceptable method for submitting confidential business information to the agency under Part 512. If you would like to submit a request for confidential treatment, you may email your submission to Dan Rabinovitz in the Office of the Chief Counsel at Daniel.Rabinovitz@dot.gov or you may contact Dan for a secure file transfer link. At this time, you should not send a duplicate hardcopy of your electronic CBI submissions to DOT headquarters. If you claim that any of the information or documents provided to the agency constitute confidential business information within the meaning of 5 U.S.C. 552(b)(4), or are protected from disclosure pursuant to 18 U.S.C. 1905, you must submit supporting information together with the materials that are the subject of the confidentiality request, in accordance with Part 512, to the Office of the Chief Counsel. Your request must include a cover letter setting forth the information specified in our confidential business information regulation (49 CFR 512.8) and a certificate, pursuant to § 512.4(b) and Part 512, appendix A. In addition, you should submit a copy, from which you have deleted the claimed confidential business information, to the Docket at the address given above.

FOR FURTHER INFORMATION CONTACT: For legal issues: Callie Roach, Office of the Chief Counsel at callie.roach@dot.gov. For technical issues: Emily Shull, Rulemaking Office of Automation Safety at Emily.Shull@dot.gov, Telephone: (202) 366-4276; Fax: (202) 366-7002. Mailing address: National Highway Traffic Safety Administration, 1200 New Jersey Avenue SE, Washington, DC 20590.

SUPPLEMENTARY INFORMATION: On November 8, 2024, in accordance with statutory and administrative provisions, NHTSA published a notice (89 FR 88856) announcing receipt of an application from HOLON seeking exemption under 49 U.S.C. 30113 (implemented at 49 CFR part 555) from portions of seven FMVSS. HOLON's application sought exemption from portions of FMVSS No. 101, Controls and displays; FMVSS No. 102, Transmission shift position sequence, starter interlock, and transmission braking effect; FMVSS No. 104, Windshield wiping and washing systems; FMVSS No. 105, Hydraulic and electric brake systems; FMVSS No. 108, Lamps, reflective devices, and associated equipment; FMVSS No. 111, Rear visibility; and FMVSS No. 208, Occupant crash protection. The notice sought public comment regarding the merits of HOLON's exemption and on potential terms and conditions that should be applied to the temporary exemption if granted. The first comment period ended January 7, 2025. NHTSA is now reopening the comment for an additional 30 days.

Explanation for Reopening Comment Period

NHTSA has decided to reopen the public comment period for 30 days. Following the close of the initial comment period, NHTSA requested and received additional information from HOLON necessary to continue evaluating the application. NHTSA finds it in the public interest to reopen the comment period to allow review and comment on the complete set of materials that HOLON has submitted to NHTSA.

NHTSA recently developed process improvements to evaluate Part 555 applications more efficiently, as outlined in a June 13, 2025 letter.¹ As stated in that letter, NHTSA intends to publish enhanced application instructions to help manufacturers better understand the application requirements in Part 555 and to provide guidance to manufacturers about the information that will be most helpful to the agency when evaluating their applications. NHTSA believes that this guidance will help streamline the Part 555 process by reducing the need for NHTSA to request additional information from manufacturers in the future.

¹ https://www.nhtsa.gov/press-releases/streamline-exemption-process-noncompliant.

As noted above, NHTSA has received additional information from HOLON, and the docket now includes the following materials:

• HOLON's final application, received August 28, 2024;

• HOLON's responses to NHTSA's first set of follow-up questions, also received August 28, 2024; and

• HOLON's responses to NHTSA's second set of questions, received July 15, 2025.

Reopening the comment period will provide the public with an opportunity to review and comment on all relevant materials while allowing NHTSA to move toward a final decision on HOLON's application. NHTSA is seeking public comment regarding the merits of HOLON's application and on potential terms and conditions that should be applied to the temporary exemption if granted.

Authority: 49 U.S.C. 30113 and 30166; delegation of authority at 49 CFR 1.95, 501.5, and 501.8.

David M. Hines,
Acting Associate Administrator for Rulemaking.

[FR Doc. 2025-18812 Filed 9-26-25; 8:45 am]

BILLING CODE 4910-59-P